ENVIRONMENTAL PROTECTION AGENCY

[FRL OP-OFA-083]

Environmental Impact Statements; Notice of Availability

Responsible Agency: Office of Federal Activities, General Information 202-564-5632 or https://www.epa.gov/nepa.

Weekly receipt of Environmental Impact Statements (EIS)

Filed August 14, 2023, 10 a.m. EST Through August 21, 2023, 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230106, Final, USFS, MN, Lutsen Mountains Ski Area Expansion Project, Review Period Ends: 10/10/2023, Contact: Orry Hatcher 218-626-4300.

EIS No. 20230107, Final, NRC, TN, Environmental Impact Statement for the Construction Permit for the Kairos Hermes Test Reactor, Review Period Ends: 09/25/2023, Contact: Tamsen Dozier 301-401-2272.

Dated: August 22, 2023.
Julie A. Roemele,
Acting Director, NEPA Compliance Division, Office of Federal Activities.

[FR Doc. 2023-18337 Filed 8-24-23; 8:45 am]

BILLING CODE 6560-50-P